NEIGHBORHOOD REINVESTMENT CORPORATION

Sunshine Act Meeting

TIME AND DATE: 2 p.m., Monday March 15, 2004.

PLACE: Neighborhood Reinvestment Corporation, 1325 G Street NW., Suite 800, Boardroom, Washington, DC 20005.

STATUS: Open.

FOR FURTHER INFORMATION CONTACT: Jeffrey T. Bryson, General Counsel/Secretary, (202) 220-2372; jbryson@nw.org.

AGENDA:

I. Call To Order

II. Approval of Minutes: December 3, 2003—Regular Meeting

III. Resolution of Appreciation

IV. Audit Committee Meeting, January 23, 2004

V. Budget Committee Meeting, February 11, 2004

VI. Treasurer's Report

VII. Executive Directors' Report

VIII. Adjournment

[FR Doc. 04-5649 Filed 3-9-04; 1:07 pm]

BILLING CODE 7570-01-M